DEPARTMENT OF HEALTH AND HUMAN SERVICES

Centers for Disease Control and Prevention

Breast and Cervical Cancer Early Detection and Control Advisory Committee: Notice of Charter Renewal

This gives notice under the Federal Advisory Committee Act (Pub. L. 92-463) of October 6, 1972, that the Breast and Cervical Cancer Early Detection and Control Advisory Committee, Centers for Disease Control and Prevention, Department of Health and Human Services, has been renewed for a 2-year period through September 12, 2008.

For information, contact Debra Younginer, Executive Secretary, Breast and Cervical Cancer Early Detection and Control Advisory Committee, Centers for Disease Control and Prevention, Department of Health and Human Services, 1600 Clifton Road, NE., Mailstop K57, Atlanta, Georgia 30333, telephone 770/488-1074 or fax 770/488-3230.

The Director, Management Analysis and Services Office, has been delegated the authority to sign Federal Register notices pertaining to announcements of meetings and other committee management activities, for both CDC and the Agency for Toxic Substances and Disease Registry.

Dated: September 20, 2006.
Alvin Hall,
Director, Management Analysis and Services Office.

[FR Doc. E6-15846 Filed 9-26-06; 8:45 am]

BILLING CODE 4163-18-P